DEPARTMENT OF TRANSPORTATION

Federal Railroad Administration

[Docket No. FRA-2011-0027; Notice No. 1]

Northeast Corridor Safety Committee; Notice of Meeting

AGENCY: Federal Railroad Administration (FRA), Department of Transportation (DOT).

ACTION: Announcement of the Northeast Corridor Safety Committee Meeting.

SUMMARY: FRA announces the first meeting of the Northeast Corridor Safety Committee, a Federal advisory committee that is mandated by Section 212 of the Passenger Rail Investment and Improvement Act of 2008 (PRIIA). The Committee is made up of stakeholders operating on the Northeast Corridor, and the purpose of the Committee is to provide annual recommendations to the Secretary of Transportation.

DATES: The meeting of the Northeast Corridor Safety Committee is scheduled to commence on Tuesday, June 14, 2011, at 9 a.m. and will adjourn by 3 p.m.

ADDRESSES: The Northeast Corridor Safety Committee meeting will be held at the Crowne Plaza Washington National Airport, located at 1480 Crystal Drive in Arlington, VA. The meeting is open to the public on a first-come, first-served basis, and is accessible to individuals with disabilities. Sign and oral interpretation can be made available if requested 10 calendar days before the meeting.

FOR FURTHER INFORMATION CONTACT: Larry Woolverton, Northeast Corridor Committee Administrative Officer/Coordinator, FRA, 1200 New Jersey Avenue, SE., Mailstop 25, Washington, DC 20590, (202) 493-6212; or Mark McKeon, Special Assistant to the Associate Administrator for Railroad Safety/Chief Safety Officer, FRA, 1200 New Jersey Avenue, SE., Mailstop 25, Washington, DC 20590, (202) 493-6350.

SUPPLEMENTARY INFORMATION: The Northeast Corridor Safety Committee is mandated by a statutory provision in Section 212 of the PRIIA (codified at 49 U.S.C. 24905(f)). This Committee is chartered by the Secretary and is an official Federal Advisory Committee established in accordance with the provisions of the Federal Advisory Committee Act, as amended, 5 U.S.C. Title 5-Appendix.

Issued in Washington, DC, on June 1, 2011.
Jo Strang,
Associate Administrator for Railroad Safety/Chief Safety Officer.

[FR Doc. 2011-13924 Filed 6-1-11; 4:15 pm]

BILLING CODE 4910-06-P